DEPARTMENT OF THE INTERIOR

United States Geological Survey

[GX16EN05ESB0500]

Nomination Period for Northeastern State Government Members of the Advisory Committee on Climate Change and Natural Resource Science

AGENCY: U.S. Geological Survey, Interior

ACTION: Notice.

SUMMARY: The Advisory Committee on Climate Change and Natural Resource Science (Committee) has a vacancy for a representative from state government in the region covered by the Northeast Association of Fish and Wildlife Agencies.

DATES: Written nominations must be received by July 13, 2016.

ADDRESSES: Send nominations to: Robin O'Malley, Policy and Partnership Coordinator, National Climate Change and Wildlife Science Center, U.S. Geological Survey, 12201 Sunrise Valley Drive, Mail Stop 516, Reston, VA 20192, romalley@usgs.gov.

FOR FURTHER INFORMATION CONTACT: Robin O'Malley, Policy and Partnership Coordinator, National Climate Change and Wildlife Science Center, U.S. Geological Survey, 12201 Sunrise Valley Drive, Mail Stop 516, Reston, VA 20192, romalley@usgs.gov.

SUPPLEMENTARY INFORMATION: The Advisory Committee on Climate Change and Natural Resource Science (Committee) provides advice on matters and actions relating to the establishment and operations of the U.S. Geological Survey National Climate Change and Wildlife Science Center and the DOI Climate Science Centers. See: https://nccwsc.usgs.gov/acccnrs for more information. See http://www.neafwa.org/members.html for the area covered by the Northeast Association of Fish and Wildlife Agencies.

The committee charter calls for representatives from state government (see below for membership categories), and the historically has had four such representatives, one from each of the four regional associations of state fish and wildlife management agencies. At present, there is no representative from the Northeastern U.S. and the Department seeks to fill this vacancy.

Nominations should include a resume that describes the nominee's qualifications in enough detail to enable us to make an informed decision regarding meeting the membership requirements of the Committee and to contact a potential member.

The Committee is composed of approximately 25 members from the Federal Government, and the following interests: (1) State and local governments, including state membership entities; (2) Non-governmental organizations, including those whose primary mission is professional and scientific and those whose primary mission is conservation and related scientific and advocacy activities; (3) American Indian tribes and other Native American entities; (4) Academia; (5) Landowners, businesses, and organizations representing landowners or businesses.

In addition, the Committee may include scientific experts, and will include rotating representation from one or more of the institutions that host the DOI Climate Science Centers.

The Committee will meet approximately 2-4 times annually, and at such times as designated by the DFO. The Secretary of the Interior will appoint members to the Committee. Members appointed as special Government employees are required to file on an annual basis a confidential financial disclosure report.

No individual who is currently registered as a Federal lobbyist is eligible to serve as a member of the Committee.

Robin O'Malley,
Designated Federal Officer, ACCCNRS.

[FR Doc. 2016-13887 Filed 6-10-16; 8:45 am]

BILLING CODE 4311-MP-P